DEPARTMENT OF EDUCATION

Request for Nominations: National Advisory Council on Indian Education (NACIE)

AGENCY: , White House Initiative on American Indian and Alaska Native Education, U.S. Department of Education.

ACTION: Request for nominations—National Advisory Council on Indian Education (NACIE).

The Obama Administration is seeking nominations for individuals to fill vacant seats and serve on the National Advisory Council on Indian Education (NACIE). NACIE is authorized by section 7141 of the Elementary and Secondary Education Act of 1965 (ESEA), 20 U.S.C. 7471. NACIE advises the Secretary of the U.S. Department of Education (Secretary) concerning the funding and administration (including the development of regulations and administrative policies and practices) of any program, including any program established under Title VII, Part A of the ESEA, with respect to which the Secretary has jurisdiction and (a) that includes Indian children or adults as participants; or (b) that may benefit Indian children or adults; makes recommendations to the Secretary for filling the position of the Director of Indian Education, U.S. Department of Education, whenever a vacancy occurs; submits to the Congress, not later than June 30 of each year, a report on the activities of NACIE, including any recommendations that NACIE considers appropriate for the improvement of Federal education programs that include Indian children or adults as participants or that may benefit Indian children or adults, and recommendations concerning the funding of any such program.

NACIE is governed by provisions of the Federal Advisory Committee Act (FACA) (Pub. L. 92-463; as amended, 5 U.S.C. app.) which sets forth standards for the formation and use of advisory committees. On behalf of the Administration, the White House Initiative on American Indian and Alaska Native Education will receive nominations for membership on NACIE consistent with the requirements listed in the Supplementary Information section of this notice. Nominations should be submitted with a cover letter addressed to the President that includes:

• Your reason(s) for nominating the individual;

• A copy of the nominee's current resume or curriculum vitae;

• Contact information for the nominee (name, title, business address, business phone, fax number, and business email address); and

• A written confirmation that the nominee accepts the nomination.

DATES: Submit nominations by 5pm EST no later than 30 days after the posting date of this notice.

ADDRESSES: Nominations must be emailed to WHIAIANE@ED.GOV with the subject line “Nomination-NACIE”.

SUPPLEMENTARY INFORMATION: The Council consists of fifteen (15) members who are Indian (including Alaska Native) as defined in 20 U.S.C. 7491(3), and are appointed by the President from lists of nominees furnished, from time to time, by Indian tribes and organizations. The fifteen members represent different geographic areas of the United States. Members serve as Special Government Employees (SGEs). SGEs are asked to provide their own best judgment without representing any particular point of view, group or special interest, and more importantly, in a manner that is free from any conflict of interest. The SGEs provide advice and recommendations based on their judgment formed by their expertise and experience. The NACIE meets at the call of the Designated Federal Official (DFO) in consultation with the Chairperson (approximately two meetings per year). The President or his delegate shall appoint a Chairperson and a Vice Chairperson from among the members. Members of NACIE may receive reimbursement for travel expenses incident to attending NACIE meetings, including per diem, as authorized by 5 U.S.C. 5703 for persons intermittently employed in the government service.

Accessible Format: Individuals with disabilities may obtain this document in an accessible format (e.g., braille, large print, audiotape, or compact disc) on request to the program contact person listed under FOR FURTHER INFORMATION CONTACT.

FOR FURTHER INFORMATION CONTACT: Sedelta Oosahwee, Associate Director, White House Initiative on American Indian and Alaska Native Education, 400 Maryland Ave SW., Room 4W120, Telephone: 202-453-5618, Email: Sedelta.Oosahwee@ed.gov.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Authority: 29 U.S.C. 765.

Dated: May 20, 2014.
Ted Mitchell,
Under Secretary, U.S. Department of Education.

[FR Doc. 2014-12097 Filed 5-23-14; 8:45 am]

BILLING CODE 4001-01-P